DEPARTMENT OF HEALTH AND HUMAN SERVICES

Agency for Healthcare Research and Quality

Request for Measures of Patients' Hospital Care Experiences

AGENCY: Agency for Healthcare Reserach and Quality (AHRQ), HHS.

ACTION: Notice of Request for measures.

SUMMARY: The Agency for Healthcare Research and Quality (AHRQ) is soliciting the submission of instruments measuring patients' experience with the quality of hospital care from researchers, stakeholders and other interested parties. This initiative is in response to the priority established by the Acting Director of AHRQ and the Administrator of the Centers for Medicare & Medicaid Services (CMS), which is to support the development of a standard that would be used nation wide. While CAHPS®, funded by AHRQ, has been accepted as the industry standard for measuring consumers' experiences within the health care system, it does not address patients' experiences within the acute care setting. In response to this need, AHRQ will initiate the process of developing a public domain instrument by reviewing existing instruments that capture the patients' hospital experiences.

DATES: Please subject instruments and supporting information by September 23, 2002. AHRQ will not respond individually to submittrs, but will consider all submitted instruments and publicly report the results of the review of the submissions in aggregate.

ADDRESSES: Submissions should include a brief cover letter, a copy of the instrument for consideration and supporting information as specified under Submission Criteria, below. Submissions may be in the form of a letter or e-mail, preferably with an electronic file in a standard word processing format on a 3½-inch floppy disk or as an e-mail attachment. Responses to this request should be submitted to: Charles Darby, Agency for Healthcare Research and Quality, 6011 Executive Blvd., Suite 200, Rockville, MD 20852, Phone: (301) 594-2050, Fax: (301) 594-2155, E-mail: cdarby@ahrq.gov.

To facilitate handling of submissions, please include full information about the instrument developer or contact: (a) name, (b) title, (c) organization, (d) mailing address, (e) telephone number, (f) fax number and (g) e-mail address. Also, please submit a copy of the instrument, evidence that it meets the criteria below, i.e., citation of a peer-reviewed journal article pertaining to the instrument to include the title of the article, author(s), publication year, journal name, volume, issue, and page numbers where article appears and or other applicable evidence. Submitters must also provide a statement of willingness to grant to AHRQ the right to use and authorize others to use submitted measures and their documentation as part of a CAHPSâ-trademarked instrument. This CAHPSâ instrument for patient assessment of hospital care will be made publicly available, free of charge. Please do not use acronyms. Electronic submissions are encouraged.

FOR FURTHER INFORMATION CONTACT: Charles Darby, Center for quality Improvement and Patient Safety, Agency for Healthcare Research and Quality, 6011 Executive Blvd., Suite 200, Rockville, MD 20852; Phone: (301) 594-2050; Fax: (301) 594-2155, e-mail: cdarby@ahrq.gov.

Submission Criteria

Instruments submitted should focus on acute, inpatient stays for medical, surgical care, OB/GYN and/or pediatric care. Measures submitted must meet these criteria to be considered: capture the patients' experience of care in acute care and/or hospital settings; demonstrate a high degree of reliability and validity; and have been used widely, not just in one or two research studies or local hospital settings. Submitters willingness to grant to AHRQ the right to use and authorize others to use the instrument means that the CAHPS® trademark will be applied to a new instrument combining the best features of all the submissions as well as any ideas that may develop from reviewing them, to ensure free access to the instrument, and free access to the instrument's supportive/administrative information. AHRQ, in collaboration with CAHPS grantees, will evaluate all submitted instruments and select one or more either in whole or in part for testing and, if required, additional modification. AHRQ will assume responsibility for the final measure set as well as any future modifications to the instrument.

The finalized instrument will bear the CAHPS® trademark and it will be made freely available for use by all interested parties. However, as a matter of quality control, there will be warnings that the CAHPS® identification may not be used if any changes are made to the instrument or final measure set without review and permission of the agency. Each submission should include the following information: the name of the instrument, whether the instrument is disease or condition specific, domain, language(s) the instrument is available in, evidence of cultural/cross group comparability, if any, instrument reliability (internal consistency, test-retest, etc.) validity (content, construct, criterion-related), response rates, methods and results of cognitive testing and field-testing and description of sampling strategies and data collection protocols, including such elements as mode of administration, use of advance letters, timing and frequencies of contacts. In addition, a list of hospitals in which the instrument has been fielded or counts of the number of hospitals by state or region, in which the survey has been and/or is being used should also be included in the submission materials. Submission of copies of existing report formats developed to disclose findings to consumers and providers is desirable, but not required. Additionally, information about existing database(s) for the instrument(s) submitted is helpful, but not required for submission. Evidence of the criteria should be demonstrated through submission of peer-reviewed journal article(s) or through the best evidence available at the time of submission.

SUPPLEMENTARY INFORMATION:

Background

AHRQ is a leader in developing and testing instruments for measuring consumer experience within the healthcare system of the United States as evidenced by the development of CAHPS®, formerly the Consumer Assessment of Health Plans, which provides information on health plan quality to consumers and purchasers alike. While CAPHS® is highly regarded within the industry and provides valuable information; it does not address patients' experience within an acute care setting. Standardization of measures is the basis for the development of the CAHPS® system, and is essential for meaningful comparison of performance of hospitals and acute care health systems. Use of a standardized measure of patient experience in hospital settings provides several benefits including: comparable information across hospitals for the public about the quality of care from the patient's perspective; data-based recommendations for quality improvement efforts and a data base to stimulate research in this area.

Leaders in the health care sector have called for a response to these pressing needs. In “Crossing the Quality Chasm,” the National Institute of Medicine (IOM) established patient-centered care as one of the industry's six aims for quality improvement. The dimensions of patient-centered care include: respect for patients' values, preferences, and expressed needs; coordination and integration of care; information, communication, and education; physical comfort; emotional support, i.e., relieving fear and anxiety; involvement of family and friends; continuity and transition; and access to care (2001).

The measurement of these dimensions will require a standardized instrument that produces reliable and valid results.

Furthermore, the National Quality Forum (NQF) has cited the need for further research and development of suitable performance measures to evaluate and improve the quality of care in the hospital setting. Among the many priorities cited by the NQF in this area, the need to measure patient experiences with inpatient care is crucial.

In an effect to address the concerns of the industry, the Acting Director of AHRQ and the Administrator of the Centers for Medicare & Medicaid Services (CMS) have established a priority to develop a standard for measuring and the public reporting of patient experiences in the acute care setting.

AHRQ, through a collaborative process with CMS and other Federal agencies, as well as other stakeholders, has initiated the process for this project. The steps to advance this initiative include:

• Stakeholder Meetings: A series of public meetings will be held to identify the issues, concerns and interests of the healthcare community. Summaries of all meetings will be posted on the AHRQ Website: http//www.ahrq.gov/qual/cahpsix.htm.

• Sponsorship: Identify potential sponsors who will fund, assist in development and periodic revisions, and ultimately help support the process for implementing and maintaining this standardized instrument.

• Research Plan: The process by which measures will be defined and applicable instruments identified. Instruments submitted will be evaluated to determine if they meet the measurement needs and to identify whether additional measure development is required. Once consensus among AHRQ and the CAHPS Grantees on the instrument is achieved, and the instrument testing is concluded, the resulting work will be readily available free of charge to all prospective users.

• Implementation Plan: A description of the recommended or required process to implement the standardized instrument will also be readily available including information related to data collection, analysis, and public reporting.

Dated: July 18, 2002.
Carolyn M. Clancy,
Acting Director.

[FR Doc. 02-18710 Filed 7-23-02; 8:45 am]

BILLING CODE 4160-90-M